DEPARTMENT OF ENERGY

Federal Energy Regulatory Commission

[Docket No. RP03-617-000]

Colorado Interstate Gas Company; Notice of Proposed Changes in FERC Gas Tariff

October 2, 2003.

Take notice that on September 26, 2003 Colorado Interstate Gas Company (CIG) tendered for filing three Firm Transportation Service Agreements (FTSAs), a Letter Agreement and Ninth Revised Sheet No. 1 to its FERC Gas Tariff, First Revised Volume No. 1.

CIG states that the FTSAs and Letter Agreement are being submitted for Commission review under the Commission's material deviation policies and have been listed on the tendered tariff sheet as non-conforming agreements. GIG states that two of the FTSAs are being submitted for review under the Commission's negotiated rate policies. CIG request that the tariff sheet is proposed to become effective October 27, 2003.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Comment Date: October 8, 2003.

Magalie R. Salas,
Secretary.

[FR Doc. E3-00020 Filed 10-8-03; 8:45 am]

BILLING CODE 6717-01-P